SMALL BUSINESS ADMINISTRATION

Public Federal Regulatory Enforcement Fairness Hearing; Region VI Regulatory Fairness Board

The Small Business Administration Region VI Regulatory Fairness Board and the SBA Office of the National Ombudsman will hold a Public Hearing on Thursday, April 24, 2003, at 8:30 a.m. at the Southern Methodist University's Cox School of Business, Fincher Building Gallery, 6212 Bishop Blvd., Dallas, Texas 75205, to receive comments and testimony from small business owners, small government entities, and small non-profit organizations concerning regulatory enforcement and compliance actions taken by Federal agencies.

Anyone wishing to attend or to make a presentation must contact Glenda Schufford in writing or by fax, in order to be put on the agenda. Glenda Schufford, U.S. Small Business Administration, Dallas/Fort Worth District Office, 4300 Amon Carter Boulevard, Suite 114, Fort Worth, TX 76155, phone (817) 684-5500 Ext. 5526, fax (817) 684-5543, e-mail Glenda.Schufford@sba.gov.

For more information, see our Web site at http://www.sba.gov/ombudsman.

Dated: March 31, 2003.
Michael L. Barrera,
National Ombudsman.

[FR Doc. 03-8242 Filed 4-3-03; 8:45 am]

BILLING CODE 8025-01-P